CORPORATION FOR NATIONAL AND COMMUNITY SERVICE

Agency Information Collection Activities; Submission to the Office of Management and Budget for Review and Approval; Comment Request; Request To Accept/Decline, Transfer, or Revoke Transfer of a Segal Education Award

AGENCY: Corporation for National and Community Service.

ACTION: Notice of information collection; request for comment.

SUMMARY: The Corporation for National and Community Service (CNCS) has submitted a public information collection request (ICR) entitled Request to Accept/Decline, Transfer, or Revoke Transfer of a Segal Education Award for review and approval in accordance with the Paperwork Reduction Act.

DATES: Written comments must be submitted to the individual and office listed in the ADDRESSES section by December 30, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Nahid Jarrett at 202-246-2770 or by email to njarrett@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on September 01, 2020 at Vol. 85 FR 54357. This comment period ended November 2, 2020. Zero public comments were received for this Notice.

Title of Collection: Request to Accept/Decline, Transfer, or Revoke Transfer of a Segal Education Award.

OMB Control Number: 3045-0136. Type of Review: Renewal.

Respondents/Affected Public: Individuals AmeriCorps members with eligible education awards and qualified recipients.

Total Estimated Number of Annual Responses: 900.

Total Estimated Number of Annual Burden Hours: 67.

Abstract: AmeriCorps members may offer to transfer all or part of their qualified education awards to certain family members. Provision is made to accept the transfer or not, to rescind acceptance, or revoke the transfer. These processes are implemented electronically where possible, but paper forms are available if necessary. Currently, CNCS is soliciting comments concerning its proposed renewal of the Award Transfer forms: Request to Transfer a Segal Education Award Amount, Accept/Decline Award Transfer Form, Request to Revoke Transfer of Education Award Form, and Rescind Acceptance of Award Transfer Form. These forms enable AmeriCorps members and recipients to meet the legal requirements of the award transfer process. CNCS seeks to renew the current information collection. CNCS also seeks to continue using the currently-approved information collection until the revised information collection is approved by OMB. The currently-approved information collection is due to expire on November 30, 2020.

Dated: November 20, 2020.
Jerry Prentice,
Director, National Service Trust.

[FR Doc. 2020-26319 Filed 11-27-20; 8:45 am]

BILLING CODE 6050-28-P